DEPARTMENT OF HOMELAND SECURITY

Coast Guard

[Docket No. USCG-2011-0171]

Merchant Marine Personnel Advisory Committee

AGENCY: Coast Guard, DHS.

ACTION: Committee Management; Notice of Committee Establishment.

SUMMARY: The Secretary of Homeland Security has determined that the establishment of the Merchant Marine Personnel Advisory Committee (MERPAC) is necessary and in the public interest in connection with the performance of duties of the U. S. Coast Guard.

Name of Committee: Merchant Marine Personnel Advisory Committee.

ADDRESSES: If you desire to submit comments on this action, they must be submitted by April 22, 2011. Comments must be identified by (USCG-2011-0171) and may be submitted by using one of the following methods:

(1) Federal eRulemaking Portal: http://www.regulations.gov. Follow the instructions for submitting comments.

(2) Fax: 202-493-2251.

(3) Mail: Docket Management Facility (M-30), U.S. Department of Transportation, West Building Ground Floor, Room W12-140, 1200 New Jersey Avenue, SE., Washington, DC 20590-0001.

(4) Hand Delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on the establishment of the MERPAC, call or e-mail Mark C. Gould, Commandant (CG-5221), Attention MERPAC, U.S. Coast Guard, 2100 Second St., SW., STOP 7126, Washington, DC 20593-7126; e-mail: mark.c.gould@uscg.mil; fax: (202) 372-1926. If you have questions on viewing or submitting material to the docket, call Renee V. Wright, Program Manager, Docket Operations, telephone 202-366-9826.

SUPPLEMENTARY INFORMATION:

Public Participation and Request for Comments

All comments received will be posted without change to http://www.regulations.gov and will include any personal information you have provided.

Submitting Comments

If you submit a comment, please include the docket number for this notice (USCG-2011-0171), indicate the specific section of this document to which each comment applies, and provide a reason for each suggestion or recommendation. You may submit your comments and material online (via http://www.regulations.gov) or by fax, mail, or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an e-mail address, or a telephone number in the body of your document so that we can contact you if we have questions regarding your submission.

To submit your comment online, go to http://www.regulations.gov, click on the “submit a comment” box, which will then become highlighted in blue. In the “Document Type” drop down menu select “Notice” and insert “USCG-2011-0171” in the “Keyword” box. Click “Search” then click on the balloon shape in the “Actions” column. If you submit your comments by mail or hand delivery, submit them in an unbound format, no larger than 8½ by 11 inches, suitable for copying and electronic filing. If you submit comments by mail and would like to know that they reached the Facility, please enclose a stamped, self-addressed postcard or envelope. We will consider all comments and material received during the comment period.

Viewing Comments and Documents

To view comments, as well as documents mentioned in this preamble as being available in the docket, go to http://www.regulations.gov, click on the “read comments” box, which will then become highlighted in blue. In the “Keyword” box insert “USCG-2011-0171” and click “Search.” Click the “Open Docket Folder” in the “Actions” column. You may also visit the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Establishment of the Committee

For the reasons set forth below, the Secretary of Homeland Security has determined that the establishment of the MERPAC is necessary and in the public interest. This determination follows consultation with the Committee Management Secretariat, General Services Administration.

The MERPAC is being established in accordance with the provisions of the Federal Advisory Committee Act (FACA) 5 U.S.C. App. (Pub. L. 92-463). The MERPAC will act in an advisory capacity to the Secretary of the Department of Homeland Security through the Commandant of the Coast Guard and the Director of Commercial Regulations and Standards on matters relating to personnel in the U.S. merchant marine, including but not limited to training, qualifications, certification, documentation, and fitness standards. The MERPAC will provide focused recommendations to relevant maritime personnel issues and we anticipate that it will be very responsive to the Coast Guard's need for recommendations on short turn-around issues. The Committee's unique industry perspective will provide critical support to the Coast Guard's efforts to ensure the safety of the U.S. merchant marine. This information would otherwise have to be drawn from the broad population involved in merchant vessel personnel matters. There is no other current entity which can provide the level of technical expertise and experience that is afforded by this advisory committee.

Balanced Membership Plans

The Committee membership is mandated by its charter and consists of nineteen (19) members appointed by the Secretary of Homeland Security as follows: a. Nine active U.S. Merchant Mariners including: (1) Three deck officers who represent the viewpoint of merchant marine deck officers, two of whom shall be licensed for oceans any gross tons, one of whom shall be licensed for inland or river route with a limited or unlimited tonnage, two of whom must have master's license or a master of towing vessels license, and one of whom must have significant tanker experience; and, to the extent practicable, one of these deck officers shall represent the point of view of labor and another shall represent a management perspective; (2) three engineering officers who represent the viewpoint of merchant marine engineering officers, two of whom shall be licensed as chief engineer any horsepower, one of whom shall be licensed as either a limited chief engineer or a designated duty engineer; and, to the extent practicable, one of these engineers shall represent a labor point of view and another shall represent a management perspective; (3) two unlicensed seamen, including one who represents the viewpoint of Able-Bodied Seamen and one who represents the viewpoint of Qualified Members of the Engine Department; and (4) one Pilot who represents the viewpoint of merchant marine pilots. b. Six Marine Educators, including: (1) Three who represent the viewpoint of Maritime Academies, two of whom shall represent State Maritime Academies, and one of whom may represent either the State Maritime Academies or the Federal Maritime Academy; and (2) three who represent the viewpoint of other maritime training institutions, one of whom shall represent the viewpoint of the small vessel industry. c. Two individuals who represent the viewpoint of shipping companies employed in ship operation management. d. Two members who are drawn from the general public.

Duration: Continuing.

Responsible DHS Officials: MERPAC will provide advice and recommendations to the Secretary of the Department of Homeland Security through the Director of Commercial Regulations and Standards, United States Coast Guard and the Commandant of the Coast Guard.

Dated: March 17, 2011.
J.G. Lantz,
Director of Commercial Regulations and Standards.

[FR Doc. 2011-6885 Filed 3-22-11; 8:45 am]

BILLING CODE 9110-04-P